DEPARTMENT OF THE INTERIOR

Bureau of Land Management

[UT-030-1430; UTU 52740 and AZA 18464]

Public Land Order No. 7503; Revocation of Public Land Order Nos. 3469 and 4277, and the Bureau of Reclamation Order Dated March 14, 1957; Utah and Arizona

AGENCY: Bureau of land management, Interior.

ACTION: Public land order.

SUMMARY: This order revokes two Public Land Orders, and one Bureau of Reclamation Order in their entirety as to the remaining 23,296 acres of lands withdrawn for the Bureau of Reclamation's Marble Canyon and Paria River Reservoir Projects. The projects have not been developed and the Bureau of Reclamation has requested the withdrawals be revoked. The lands are located within either the Paria Canyon-Vermilion Cliffs Wilderness or the Grand Staircase-Escalante National Monument and will be managed in accordance to the laws and regulations pertaining to the Wilderness and the Monument.

EFFECTIVE DATE: February 11, 2002.

FOR FURTHER INFORMATION CONTACT: Rhonda Flynn, BLM Utah State Office (UT-942), 324 South State Street, Salt Lake City, Utah 84111-2303, 801-539-4132. A copy of the orders being revoked is available from this location.

SUPPLEMENTARY INFORMATION: By virtue of the authority vested in the Secretary of the Interior by section 204 of the Federal Land Policy and Management Act of 1976, 43 U.S.C. 1714 (1994), it is ordered as follows:

1. Public Land Order No. 3469, Public Land Order No. 4277, and Bureau of Reclamation Order dated March 14, 1957, are hereby revoked in their entirety as to the remaining lands withdrawn for the Marble Canyon and Paria River Reservoir Projects. The areas within the three orders aggregate approximately 23,296 acres in Kane and Coconino Counties.

2. The lands will be managed in accordance with the laws and regulations pertaining to the Paria Canyon-Vermilion Cliffs Wilderness and the Grand Staircase-Escalante National Monument.

Dated: October 2, 2001.
J. Steven Griles,
Deputy Secretary.

[FR Doc. 02-592 Filed 1-9-02; 8:45 am]

BILLING CODE 4310-$$-P